DEPARTMENT OF ENERGY

National Nuclear Security Administration; National Nuclear Security Administration Advisory Committee

AGENCY: Department of Energy, National Nuclear Security Administration.

ACTION: Notice of closed meeting.

SUMMARY: This notice announces a meeting of the National Nuclear Security Administration Advisory Committee (NNSA AC). The Federal Advisory Committee Act, 5 U.S.C. App. 2 § 10(a)(2) requires that public notice of these meetings be announced in the Federal Register.

DATES: Friday, October 19, 2001, 12:30 to 19:00, and Saturday, October 20, 08:30 to 15:00.

Location: The meeting will be held in the metropolitan Washington area. The exact meeting site is yet to be determined.

FOR FURTHER INFORMATION CONTACT: Jennifer Leonard (202-586-5555), Acting Staff Director of NNSA AC.

SUPPLEMENTARY INFORMATION: Purpose of the Committee: To provide the Administrator for Nuclear Security with advice and recommendations on matters of technology, policy, and operations that lie within the mission and responsibilities of the National Nuclear Security Administration. Additional information about the Committee, including its charter, members, and current charge, is available at: http://www.nnsa.doe.gov.

Purpose of the Meeting: To discuss national security research, development, and policy programs, as the issues pertain to the Committee's charge. In addition, the Committee will discuss how the September 11, 2001, attacks impact the NNSA mission, the Committee's focus, and path forward on the charge. NNSA acknowledges and apologizes for late posting of the meeting notice, due to uncertainties stemming from these recent events.

Tentative Meeting Agenda

Friday, October 19, 2001

12:30 Chairman Opens Meeting

12:30-14:30 Defense Programs Subcommittee Brief and Discussion

15:00-17:30 Nonproliferation Subcommittee Brief and Discussion

17:30-19:00 Executive Committee Discussion

Saturday, October 20, 2001

08:30-11:30 Debrief Administrator on Discussions, Next Steps

11:30-12:30 Lunch break

12:30-03:00 Wrap up

Closed Portions of Meeting: In the interest of national security, the meeting will be closed to the public. The Federal Advisory Committee Act, 5 U.S.C. App 2 § 10 (d), and the Federal Advisory Committee Management Regulation, 41 CFR 102-3.155, incorporate by reference the Government in the Sunshine Act, 5 U.S.C. 552b, which, at 552b (c)(1) and (c)(3) permits closure of meetings where restricted data or other classified matters will be discussed. Such data and matters will be discussed in each session.

Minutes: Minutes of the meeting will be recorded and classified accordingly.

Issued at Washington, DC, on October 5, 2001.
Rachel M. Samuel,
Deputy Advisory Committee Management Officer.

[FR Doc. 01-25596 Filed 10-10-01; 8:45 am]

BILLING CODE 6450-01-P